DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Improving Quality through Health IT: Testing the Feasibility and Assessing the Impact of Using Existing Health IT Infrastructure for Better Care Delivery.” In accordance with the Paperwork Reduction Act of 1995, 44 U.S.C. 3506(c)(2)(A), AHRQ invites the public to comment on this proposed information collection.

This proposed information collection was previously published in the Federal Register on February 15th, 2008 and allowed 60 days for public comment. No comments were received. The purpose of this notice is to allow an additional 30 days for public comment.

DATES: Comments on this notice must be received by May 21, 2008.

ADDRESSES: Written comments should be submitted to: AHRQs OMB Desk Officer by fax at (202) 395-6974 (attention: AHRQ's desk officer) or by e-mail at OIRA_submission@omb.eop.gov (attention: AHRQ's desk officer).

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@ahrq.hhs.gov.

SUPPLEMENTARY INFORMATION:

Proposed Project

“Improving Quality through Health IT: Testing the Feasibility and Assessing the Impact of Using Existing Health IT Infrastructure for Better Care Delivery.”

AHRQ proposes to assess how the use of health information technology (IT) can improve care delivery and outcomes in community health centers. AHRQ is specifically interested in improving the quality of care provided in a community clinic setting through better management of laboratory information. The study will measure the impact of health IT tools on two problems: duplicate laboratory tests and the failure to follow up on laboratory test results of HIV patients and women screened for cervical cancer. In addition, AHRQ will measure the impact of health IT on compliance with evidence-based guidelines for laboratory tests. The study will also investigate whether disparities between vulnerable populations and the general population exist in both laboratory screening rates and rates of abnormal laboratory test results without follow up. To assess the extent of these problems and the impact of health IT, AHRQ will evaluate both quantitative and qualitative components. The qualitative component will use interviews with key informants in two community health centers to gather data on laboratory information processes, laboratory information communication problems and use of health IT tools.

Method of Collection

Quantitative data will be collected directly from the clinical data warehouse used by the participating community health centers to routinely collect laboratory data. The collection will be accomplished using database reports. Qualitative data will be collected through key informant interviews conducted in each of the two participating community health centers. Key informants will include physicians, nurses, medical assistants, IT personnel, and administrators. The total number of interviews to be conducted at both sites is forty-one.

Estimated Annual Respondent Burden

Exhibit 1 shows the estimated annualized burden hours. A total of forty-one in-person interviews will be conducted with administrative and clinical personnel: Eighteen interviews from administrative personnel and twenty-three interviews from clinical personnel. The question set is the same for both clinical and administrative personnel. The estimated time per response is 1.5 hours for a total of 61.5 burden hours.

Exhibit 2 shows the estimated annualized cost burden for the respondents' time to provide the requested data. The hourly rate of $32.13 is a weighted average of the administrative personnel hourly wage of $19.68 and the clinical personnel hourly wage of $41.88. The total cost burden is $1,976.

Exhibit 1.—Estimated Annualized Burden Hours
Data collection | Number of respondents | Number of responses per respondent | Hours per response | Total burden hours
In-person interviews | 41 | 1 | 1.5 | 61.5
Total | 41 | na | na | 61.5

Exhibit 2.—Estimated Annualized Cost Burden
Data collection | Number of respondents | Total burden hours | Average hourly wage rate* | Total cost burden
In-person interviews | 41 | 61.5 | $32.13 | $1,976
Total | 41 | na | na | 1,976
* Based upon the actual site personnel wages. Clinical personnel averages are weighted by the number of physicians, nurses and medical assistants in the sample. Administrative personnel averages are weighted by the number of administrators, lab, IT and other support personnel. Total average is weighted by relative number of administrative and clinical personnel being interviewed.

Estimated Annual Costs to the Federal Government

The total cost to the Federal Government for this project is $393,457 over a two-year period. The average annual cost is $196,728. The following is a breakdown of average annual costs:

Direct Costs

Personnel—$108,320

Consultancies—$24,400

Data support—$5,000

Travel—$2,575

Supplies—$100

IRB review—$125

Indirect Costs

Indirect costs (40%)—$56,208

Request for Comments

In accordance with the above-cited Paperwork Reduction Act legislation, comments on AHRQ's information collection are requested with regard to any of the following: (a) Whether the proposed collection of information is necessary for the proper performance of AHRQ's health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: April 11, 2008.
Carolyn M. Clancy,
Director.

[FR Doc. E8-8444 Filed 4-18-08; 8:45 am]

BILLING CODE 4160-90-M